DEPARTMENT OF THE INTERIOR

Fish and Wildlife Service

[FWS-HQ-NWRS-2021-N210; FXRS12630900000-212-FF09R81000; OMB Control Number 1018-0102]

Agency Information Collection Activities; Submission to the Office of Management and Budget for Review and Approval; National Wildlife Refuge Special Use Permit Applications and Reports

AGENCY: Fish and Wildlife Service, Interior.

ACTION: Notice of information collection; request for comment.

SUMMARY: In accordance with the Paperwork Reduction Act of 1995, we, the U.S. Fish and Wildlife Service (Service), are proposing to revise an existing collection of information.

DATES: Interested persons are invited to submit comments on or before March 18, 2022.

ADDRESSES: Written comments and recommendations for the proposed information collection should be sent within 30 days of publication of this notice to www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference OMB Control 1018-0102 in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance. You may also view the Information Collection Request (ICR) at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On July 13, 2021, we published a notice in the Federal Register (86 FR 36762) announcing our intent to revise this information collection. We solicited public comment for 60 days, ending on September 13, 2021. We received one comment in response to the notice; however, the commenter did not address the information collection requirements. No response is required.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The National Wildlife Refuge System Administration Act of 1966 (Administration Act; 16 U.S.C. 668dd-668ee), as amended by the National Wildlife Refuge System Improvement Act of 1997, consolidated all refuge units into a single National Wildlife Refuge System (system). It also authorized us to offer visitor and public programs, including those facilitated by commercial visitor and management support services, on lands of the system when we find that the activities are appropriate and compatible with the purpose(s) for which the refuge was established and the system's mission. The Refuge Recreation Act of 1962 (Recreation Act; 16 U.S.C. 460k-460k-4) allows the use of refuges for public recreation when it is not inconsistent or does not interfere with the primary purpose(s) of the refuge. The Alaska National Interest Lands Conservation Act (ANILCA; 16 U.S.C. 3101 et seq.) provides specific authorization and guidance for the administration and management of national wildlife refuges within the State of Alaska. Its provisions provide for the issuance of permits under certain circumstances.

We issue special use permits for a specific period as determined by the type and location of the management activity or visitor service provided. These permits authorize activities such as:

• Agricultural activities (haying and grazing, 50 CFR 29.1 and 50 CFR 29.2).

• Beneficial management tools that we use to provide the best habitat possible on some refuges (50 CFR 30.11, 50 CFR 31.14, 50 CFR 31.16, and 50 CFR 36.41).

• Special events, group visits, and other one-time events (50 CFR 25.41, 50 CFR 25.61, 50 CFR 26.36, and 50 CFR 36.41).

• Recreational visitor service operations (50 CFR 25.41, 50 CFR 25.61, and 50 CFR 36.41).

• Guiding for fishing, hunting, wildlife education, and interpretation (50 CFR 25.41 and 50 CFR 36.41).

• Commercial filming (43 CFR 5, 50 CFR 27.71) and other commercial activities (50 CFR 29.1 and 50 CFR 36.41).

• Building and using cabins to support subsistence or commercial activities (in Alaska) (50 CFR 26.35 and 50 CFR 36.41).

• Research, inventory and monitoring, and other noncommercial activities (50 CFR 26.36 and 50 CFR 36.41).

We use three forms to collect applicant information:

• FWS Form 3-1383-G (General Activities Special Use Permit Application).

• FWS Form 3-1383-C (Commercial Activities Special Use Permit Application).

• FWS Form 3-1383-R (Research and Monitoring Special Use Permit Application).

The information we collect helps ensure that: (1) Applicants are aware of the types of information that may be needed for permit issuance; (2) requested activities are appropriate and compatible with the purpose(s) for which the refuge was established and the system's mission; and (3) the applicant is eligible or is the most qualified applicant to receive the special use permit.

We may collect the necessary information in a non-form format (through discussions in person or over the phone, over the internet, by email, or by letter). In some instances, respondents will be able to provide information verbally. Often, a simple email or letter describing the activity will suffice. For activities that might have a large impact on refuge resources (e.g., commercial visitor services, research, etc.), we may require applicants to provide more detail on operations, techniques, and locations. Because of the span of activities covered by special use permits and the different management needs and resources at each refuge, respondents may not be required to answer all questions. Depending on the requested activity, refuge managers have the discretion to ask for less information than appears on the forms. However, refuge managers must not ask for more or different information.

We issue permits for a specific period as determined by the type and location of the use or service provided. We use these permits to ensure that the applicant is aware of the requirements of the permit and his/her legal rights. Refuge-specific special conditions may be required for the permit. We identify conditions as an addendum to the permit. Most of the special conditions pertain to how a permitted activity may be conducted and do not require the collection of information. However, some special conditions, such as activity reports, before and after site photographs, or data sharing, would qualify as an information collection, and we have included the associated burden below.

We also use FWS Form 3-1384, “Bid Sheet—National Wildlife Refuge System,” to streamline collection of the necessary pre-award information from applicants during bidding processes to conduct economic uses on Service lands, such as livestock, harvesting hay and stock feed, or removing timber (50 CFR 29.21). This form simplifies the pre-award selection/bidding process for bidders and for refuge staff by enabling them to understand what information the refuge needs in order to select bids for economic use, and, therefore, reduces the time and burden for the public and Service staff in the pre-award selection bidding process. This form is customizable to the individual economic use being awarded. We will use the Commercial Special Use Permit (FWS Form 3-1383-C) as the actual award document that will outline the terms and conditions of the economic use on Service lands.

Proposed Revisions to This Information Collection

With this submission, we are proposing the following revisions to the existing information collection:

Activity Reports/Associated Document Requirements

In addition to the previously approved activity report criteria, the Service will also collect data associated with client use days and their fees. The Service has also updated the reporting rate for permits issued for both Commercial Use and Research to reflect current requirements.

ePermits Initiative

The Service's new “ePermits” initiative is an automated permit application system that will allow the agency to move towards a streamlined permitting process to reduce public burden. Public burden reduction is a priority for the Service; the Assistant Secretary for Fish, Wildlife, and Parks; and senior leadership at the Department of the Interior. The intent of the ePermits initiative is to fully automate the permitting process to improve the customer experience and to reduce time burden on respondents. This new system will enhance the user experience by allowing users to enter data from any device that has internet access, including PCs, tablets, and smartphones. It will also link the permit applicant to the Pay.gov system for payment of the associated permit application fee. We anticipate including the following Service forms in the ePermits system: 3-1383-G, 3-1383-C, 3-1383-R, and 3-1384.

Once these forms are automated in the new ePermits system, we anticipate a reduction in the amount of time necessary for an applicant to apply for a permit and perform regular actions related to that permit (e.g., amend, renew, report). Through the ePermits account registration, we will track and be able to more accurately report the number of small business applicants, along with the type of business (for-profit, farm, not-for profit). This information will allow the Service to be more responsive in identifying the possibility of additional burden reduction on small businesses.

We also plan to eliminate the necessity for physical mail-in applications (though this will remain an option for those who either don't have access to the internet or prefer to use mail-in applications), thus further reducing public burden. With ePermits, an applicant will be able to establish an account and apply for multiple permits through a single interface. The system allows the applicant to track all their applications, permits and permit-related actions, as well as all communications between Service staff and the permittee/applicant within the same interface, significantly reducing the burden on the government to process these applications and manage permit-related actions. The decrease in submissions of paper-based forms is expected to reduce the government cost of administering and processing permit applications.

Amendments and Renewals

Through our review of the special use permitting process in preparation for automation in the ePermits system, we discovered that we need to account for amendments to and renewals of special use permits separately from the initial applications, because amendments/renewals have time burdens that are different from those of the initial submissions. The revised burden table below includes our initial estimates for amendments and renewals.

Title of Collection: National Wildlife Refuge Special Use Permit Applications and Reports, 50 CFR 25, 26, 27, 29, 30, 31, 32, & 36.

OMB Control Number: 1018-0102.

Form Number: FWS Forms 3-1383-G, 3-1383-C, 3-1383-R, and 3-1384.

Type of Review: Revision of a currently approved collection.

Respondents/Affected Public: Individuals and households; businesses and other for-profit organizations; nonprofit organizations; farms; and State, local, or tribal governments.

Total Estimated Number of Annual Respondents: 13,903.

Total Estimated Number of Annual Responses: 13,903.

Estimated Completion Time per Response: Varies from 25 minutes to 5 hours, depending on activity.

Total Estimated Number of Annual Burden Hours: 21,446.

Respondent's Obligation: Required to obtain or retain a benefit.

Frequency of Collection: On occasion for applications; annually or on occasion for reports.

Total Estimated Annual Nonhour Burden Cost: $337,500 for fees associated with applications for commercial use activities ($100.00 × an estimated 3,375 applications (individuals and private sector respondents only)).

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2022-03305 Filed 2-15-22; 8:45 am]

BILLING CODE 4333-15-P